DEPARTMENT OF HOMELAND SECURITY

Federal Emergency Management Agency

[Docket ID: FEMA-2024-0018; OMB No. 1660-0061]

Agency Information Collection Activities: Proposed Collection; Comment Request; Federal Assistance to Individuals and Households Program

AGENCY: Federal Emergency Management Agency, Department of Homeland Security.

ACTION: 60 Day notice of revision and request for comments.

SUMMARY: The Federal Emergency Management Agency (FEMA), as part of its continuing effort to reduce paperwork and respondent burden, invites the general public to take this opportunity to comment on the revision of a currently approved information collection. In accordance with the Paperwork Reduction Act of 1995, this notice seeks comments concerning the Federal Emergency Management Agency's (FEMA's) Individuals and Households Program, providing financial assistance to individuals whose primary residences were destroyed as a result of a Presidentially-declared disaster. This revision primarily includes the addition of new forms/form updates from the IA Equity review, the Other Needs Assistance (ONA) Standard Operating Procedures (SOP) update, and a review of all forms from the OMB Collection Review project that specifically targeted accuracy, plain language, and updates due to policy and business practice changes.

DATES: Comments must be submitted on or before July 15, 2024.

ADDRESSES: To avoid duplicate submissions to the docket, please only submit comments at www.regulations.gov under Docket ID FEMA-2024-0018. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Brian Thompson, Supervisory Program Specialist, FEMA, Recovery Directorate by telephone at (540) 686-3602 or email at Brian.Thompson6@fema.dhs.gov. You may contact the Information Management Division for copies of the proposed collection of information at email address: FEMA-Information-Collections-Management@fema.dhs.gov.

SUPPLEMENTARY INFORMATION: The Robert T. Stafford Disaster Relief and Emergency Assistance Act (Stafford Act) (Pub. L. 93-288, as amended) is the legal basis for the Federal Emergency Management Agency (FEMA) to provide financial assistance and services to individuals applying for disaster assistance benefits in the event of a federally-declared disaster. Regulations in 44 CFR 206.110—Federal Assistance to Individuals and Households (IHP) implements the policy and procedures set forth in Section 408 of the Stafford Act (42 U.S.C. 5174, as amended). This program provides financial assistance and, if necessary, direct assistance to eligible individuals and households who, as a direct result of a major disaster or emergency, have uninsured or under-insured, necessary expenses, and serious needs, and are unable to meet such expenses or needs through other means.

Collection of Information

Title: Federal Assistance to Individuals and Households Program.

Type of Information Collection: Revision, of a currently approved information collection.

OMB Number: 1660-0061.

FEMA Forms: FEMA Form FF-104-FY-21-114 (formerly 010-0-11), Individuals and Households Program (IHP)—Other Needs Assistance Administrative Option Selection; Development of State/Tribal Administrative Plan (SAP) for Other Needs Provision of IHP; FEMA Form FF-104-FY-21-115 (formerly 010-0-12, English), Individuals and Households Program Application for Continued Temporary Housing Assistance; FEMA Form FF-104-FY-21-115-A (formerly 010-0-12S, Spanish), Programa de Individuos y Familias Solicitud Para Continuar La Asistencia de Vivienda Temporera; Request for Approval of Late Registration; Appeal of Program Decision; FEMA Form FF-104-FY-21-116 (formerly 009-0-95, English), Request for Advance Disaster Assistance; FEMA Form FF-104-FY-21-116-A (formerly 009-0-95S, Spanish), Solicitud de Adelanto de la Asistencia por Desastre; FEMA Form FF-104-FY-21-117 (formerly 009-0-96, English), Request to Stop Payment and Reissue Disaster Assistance Check; FEMA Form FF-104-FY-21-117-A (formerly 009-0-96S, Spanish), Solicitud para Detener el Pago y Reemitir el Cheque de Asistencia por Desastre; FEMA Form FF-104-FY-21-118—(formerly 140-003d-1, English), Authorization for the Release of Information Under the Privacy Act; FEMA Form FF-104-FY-21-118-A (formerly 140-003d-1S, Spanish), Autorización para la Divulgación de Información bajo el Acta de Privacidad; FEMA Form FF-104-FY-22-228—(English), Individuals and Households Program (IHP)—Supplemental Application for Continued Temporary Housing Assistance; FEMA Form FF-104-FY-22-228-A—(Spanish), Individuals and Households Program (IHP)—Programa De Individuos Y Familias Solicitud Suplementaria De Asistencia De Vivienda Temporal Continua; FEMA Form FF-104-FY-22-229—Individuals and Households Program (IHP)—Appeal Request; and FEMA Form FF-104-FY-22-229-A—Programa de Individuos Y Familias (IHP) Solicitud de Apelación.

Abstract: This information collection provides disaster survivors the opportunity to request approval of late applications, continued temporary housing assistance, request advance disaster assistance, stop payments not received in order to be reissued funds, and to appeal program decisions. This collection also allows for the establishment of an annual agreement between FEMA and States, Territories, and Tribal Governments regarding how the Other Needs Assistance provision of IHP will be administered: by FEMA, by the State, Territory, or Tribal Government, or jointly. This collection allows survivors to provide additional information after the initial disaster assistance registration period in support of their applications for assistance from FEMA's IHP. If the information in this collection is not collected, a delay in assistance provided to disaster survivors would occur.

Affected Public: Individuals or households, State, Local or Tribal government.

Estimated Number of Respondents: 1,750,896.

Estimated Number of Responses: 2,027,047.

Estimated Total Annual Burden Hours: 508,505.

Estimated Total Annual Respondent Cost: $21,982,880.

Estimated Respondents' Operation and Maintenance Costs: $0.

Estimated Respondents' Capital and Start-Up Costs: $0.

Estimated Total Annual Cost to the Federal Government: $1,227,786.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-10727 Filed 5-15-24; 8:45 am]

BILLING CODE 9111-24-P